DEPARTMENT OF THE INTERIOR

Fish and Wildlife Service

[Docket No. FWS-HQ-IA-2021-0008; FXIA16710900000-FF09A30000-223]

Conference of the Parties to the Convention on International Trade in Endangered Species of Wild Fauna and Flora (CITES); Nineteenth Regular Meeting: Proposed Resolutions, Decisions, and Agenda Items Being Considered; Observer Information

AGENCY: Fish and Wildlife Service, Interior.

ACTION: Notice.

SUMMARY: The United States, as a Party to the Convention on International Trade in Endangered Species of Wild Fauna and Flora (CITES), may propose amendments to the CITES Appendices for consideration at meetings of the Conference of the Parties (Conference, or CoP). The nineteenth regular meeting of the Conference of the Parties to CITES (CoP19) is scheduled to be held in Panama City, Panama, November 14-25, 2022. With this notice, we respond to suggestions received from the public concerning proposed resolutions, decisions, and agenda items that the United States might submit for consideration at CoP19; invite your comments and information on these issues; and provide information on how U.S. nongovernmental organizations can attend CoP19 as observers.

DATES:

Meeting: The meeting is scheduled to be held in Panama City, Panama, November 14-25, 2022.

Submitting Information and Comments: We will consider all information and comments we receive on or before April 6, 2022.

Requesting Approval to Attend CoP19 as an Observer: We must receive your request no later than August 14, 2022 (see ADDRESSES).

ADDRESSES:

Comments: You may submit comments by one of the following methods:

(1) Electronically: Using the Federal eRulemaking Portal: https://www.regulations.gov, search for FWS-HQ-IA-2021-0008, which is the docket number for this notice.

(2) U.S. mail: Public Comments Processing, Attn: FWS-HQ-IA-2021-0008; U.S. Fish and Wildlife Service Headquarters, MS: PRB (JAO/3W), 5275 Leesburg Pike, Falls Church, VA 22041-3803.

We will not accept email or faxes. Comments and materials we receive, as well as supporting documentation, will be available for public inspection on https://www.regulations.gov.

Requesting Approval to Attend CoP19 as an Observer: Send your request via U.S. mail to the Division of Management Authority, U.S. Fish and Wildlife Service, 5275 Leesburg Pike, MS: IA, Falls Church, VA 22041; via email to managementauthority@fws.gov; or via fax to 703-358-2298.

FOR FURTHER INFORMATION CONTACT: For information pertaining to resolutions, decisions, and agenda items, contact Naimah Aziz, Branch Manager, Division of Management Authority, at 703-358-2028 (phone); 703-358-2298 (fax); or managementauthority@fws.gov (email). If you use a telecommunications device for the deaf (TDD), call the Federal Relay Service at 800-877-8339.

SUPPLEMENTARY INFORMATION:

Background

The Convention on International Trade in Endangered Species of Wild Fauna and Flora, hereinafter referred to as CITES or the Convention, is an international treaty designed to control and regulate international trade in certain animal and plant species that are or may be affected by trade and are now, or potentially may become, threatened with extinction. Species are included in the Appendices to CITES, which are available on the CITES Secretariat's website at https://cites.org/eng/app/appendices.php.

Currently there are 184 Parties to CITES—183 countries and 1 regional economic integration organization, the European Union. On January 4, 2022, Andorra became the 184th Party to CITES. The Convention calls for regular biennial meetings of the Conference of the Parties, unless the Conference decides otherwise. At these meetings, the Parties review the implementation of CITES, make provisions enabling the CITES Secretariat in Switzerland to carry out its functions, consider amendments to the list of species in Appendices I and II, consider reports presented by the Secretariat, and make recommendations for the improved effectiveness of CITES. Any country that is a Party to CITES may propose amendments to Appendices I and II, as well as resolutions, decisions, and agenda items for consideration by all the Parties. Our regulations governing this public process are found in 50 CFR 23.87.

This is our second notice in a series of Federal Register notices that, together with a public meeting that we will hold approximately 2 to 3 months prior to CoP19, provide you with an opportunity to participate in the development of the U.S. submissions and negotiating positions for the nineteenth regular meeting of the Conference of the Parties to CITES (CoP19), which is scheduled to be held in Panama City, Panama, November 14-25, 2022. With this notice, we describe proposed resolutions, decisions, and agenda items that the United States might submit for consideration at CoP19; invite your comments and information on these proposals; and provide information on how U.S. nongovernmental organizations can attend CoP19 as observers.

We published our first CoP19-related Federal Register notice on March 2, 2021 (86 FR 12199), in which we requested information and recommendations on animal and plant species proposals and proposed resolutions, decisions, and agenda items for the United States to consider submitting for consideration at CoP19. A notice describing what proposals to amend the Appendices the United States might submit for consideration at CoP19 will be published separately. Comments received on our March 2, 2021, notice can be viewed at https://www.regulations.gov in Docket No. FWS-HQ-IA-2021-0008.

Recommendations for Resolutions, Decisions, and Agenda Items for the United States To Consider Submitting for CoP19

In response to our first notice, we received information and recommendations for possible submissions to CoP19 from the following organizations: Action for Primates, Animal Welfare Institute, Center for Biological Diversity, Costa Farms, EMS Foundation (South Africa), Environmental Investigation Agency, Friends of Animals, International Fund for Animal Welfare, International Wood Products Association, International Union for Conservation of Nature (IUCN) Species Survival Commission (SSC) Pangolin Specialist Group, League of American Orchestras, Natural Resources Defense Council, Species Survival Network, Wildlife Conservation Society, and World Wildlife Fund. We also received comments from three individuals.

We evaluated all of the recommendations submitted by the above organizations and individuals, as well as the factors described in the U.S. approach for CoP19, discussed in our March 2, 2021, Federal Register notice, in considering resolutions, decisions, and agenda items that the United States may submit for consideration by the Parties at CoP19. In compiling these lists, we also considered potential submissions that we identified internally. The United States may consider submitting documents on some of the issues for which we are currently undecided or not considering submitting at this time, depending on the outcome of discussions of these issues in the CITES Standing Committee at its 74th meeting (SC74; scheduled to be held March 7-11, 2022), additional consultations with range country governments and subject matter experts, or comments we receive during the public comment period for this notice.

We welcome your comments and information regarding the resolutions, decisions, and agenda items discussed below. Please review the information under ADDRESSES on how to submit information and comments in response to this notice.

A. What resolutions, decisions, and agenda items is the United States likely to submit for consideration at CoP19?

Due to the significant number of issues that are subject to ongoing discussions in the Standing Committee, to date we have not identified any issues for which we are likely to submit a document to CoP19. As described below, we will make a final decision on whether to submit a document to CoP19 for many issues described in this document pending the outcomes and discussions at SC74.

B. On what resolutions, decisions, and agenda items is the United States still undecided, pending additional information and consultations?

1. CITES and zoonoses: Since the COVID-19 pandemic, multiple nongovernmental organizations have called for CITES to address zoonotic disease risk arising from international wildlife trade. Suggestions have included amending the Convention text, adding a “Protocol” to CITES identifying taxa to be regulated based on disease risk, and considering the submission of a draft resolution to improve the safety of wildlife trade, among other approaches.

Studies indicate that the number of CITES-listed animal species with “zoonotic potential” is significant. The United States believes that CITES has a role to play in reducing zoonotic disease emergence and spread and that any action by CITES should be part of a larger global effort to prevent zoonoses. The United States is actively participating in an ongoing intersessional working group of the Standing Committee on this issue, and we anticipate that the Standing Committee will submit a document for consideration at CoP19. Depending on the outcomes and discussion at SC74, we may submit a separate or complementary document to CoP19. We are committed to engaging with other Parties and non-Party stakeholders to develop the most effective approach and identify feasible solutions that will reduce the spread of zoonotic disease in international wildlife trade in a way that strengthens but does not overextend CITES, and makes wildlife trade healthier for people and animals. We believe that CITES provides opportunities for taking positive steps toward reducing zoonotic disease risk, and in a possible U.S. document we would consider approaches that, for example: Improve conditions for live animals during transport and pre-trade care; consider disease risk frameworks for identifying high-risk taxa in trade; and expand CITES collaboration with the World Organisation for Animal Health (OIE).

2. CITES National Legislation Project (NLP): The Wildlife Conservation Society (WCS) seeks to ensure that the CITES National Legislation Project (NLP) is on the CoP19 agenda and recommends that the United States submit a document proposing amendments to Resolution Conf. 8.4 (Rev. CoP15) on National laws for implementation of the Convention, to provide clear guidelines concerning the criteria for inclusion in Categories 1, 2, and 3 (including coverage of all CITES taxa, native and nonnative, and marine species). WCS also recommends that the United States provide support to the Secretariat to undertake an update to the CITES model law (and its translations), as well as to provide further guidance on fisheries legislation to facilitate CITES implementation. The Environmental Investigation Agency (EIA) recommends that the United States liaise with the Secretariat to share best practices from U.S. CITES implementing legislation that could be incorporated into the NLP guidance materials; support updates to the criteria for assessing legislation under the NLP; and call for the current categorizations under the NLP to be reviewed against any changes made in the NLP guidance materials.

The United States believes that the effectiveness of CITES is significantly undermined when Parties do not have adequate measures in place for implementing the Convention, and we consider the NLP to be critically important in achieving effective CITES implementation. Although we recognize that the Secretariat has placed significant focus on assisting Parties to enact adequate CITES implementing legislation, we also acknowledge that there are still too many Parties without adequate measures in place to implement CITES. We note that the Secretariat will report on the NLP at CoP19, as required by Resolution Conf. 8.4 (Rev. CoP15) on National laws for implementation of the Convention, and, therefore, this issue will be on the CoP19 agenda. We are evaluating the recommendations from WCS and EIA and are currently undecided, pending further consultations and the outcome of discussions at the 74th meeting of the Standing Committee (SC74), as to whether we will submit a document on this issue for consideration at CoP19.

3. Elephants (Elephantidae): WCS recommends that the United States seek to ensure continued reporting on implementation of Resolution Conf. 10.10 (Rev. CoP18) on Trade in elephant specimens, with a particular focus on the successful enforcement of new laws on domestic ivory trade; to work with other Parties, including the European Union, Japan, and others, to close their ivory markets as a matter of urgency; and ensure that the issue continues to be discussed at CoP19 as a separate agenda item.

We agree that the enforcement of domestic laws concerning ivory trade and the closure of domestic markets are actions necessary to put an end to trafficking in elephant ivory. We also recognize that unregulated legal markets can provide cover for laundering of illegal ivory and have put in place a near-total ban on commercial trade in elephant ivory in the United States. We note that there is ongoing work by the Secretariat and the Standing Committee on all of the issues related to elephants that were raised by WCS in its comments and, therefore, are undecided about submitting a document on this issue for consideration at CoP19, pending the results of this work and the outcomes and discussions at SC74.

4. Ivory stocks and stockpile management: WCS recommends that the United States submit a discussion document with draft decisions that call for continued review of the ivory stockpile management and disposal guidance by the Standing Committee, including its implementation and any issues encountered by Parties, and direct the Secretariat to identify and compile available templates or guidance on model legislation/regulation or standard operating procedures that have worked for Parties with large stockpiles of seized ivory. WCS also recommends that the United States submit, or co-sponsor, a document that would amend Resolution Conf. 10.10 (Rev. CoP18) to encourage the destruction of ivory stockpiles.

The United States is undecided on these issues, pending outcomes and recommendations from SC74.

5. National Ivory Action Plans (NIAPs): WCS recommends that the United States submit a document with proposed amendments to Resolution Conf. 10.10 (Rev. CoP18) seeking increased independent evaluation of proposed and adopted NIAPs, including progress made against them in terms of effectively reducing elephant poaching and illegal trade in ivory, and to advocate through the Standing Committee for decisions to be taken in line with the best available evidence from the Elephant Trade Information System (ETIS) and other current sources. EIA, the International Fund for Animal Welfare, and WCS also urge the United States to encourage the Secretariat to contract third-party expertise to support transparency and help distribute the workload of the NIAP process and support proactive reporting of all seizure-related data to ETIS and all relevant data on elephant mortality and poaching to Monitoring the Illegal Killing of Elephants (MIKE).

The United States considers the NIAPs, including the concrete actions contained therein and the specific deadlines for completion, to be a positive step in actively addressing illegal ivory trade. Noting that there is ongoing work on NIAPs in the Standing Committee, we are currently undecided about submitting a document on NIAPs for consideration at CoP19 and will closely evaluate reports to SC74 in making our decision.

6. Cheetahs: WCS recommends that the United States submit a document with draft decisions that would:

• Ensure that the illegal trade in cheetahs remains a high priority for Parties;

• request range, transit, and consumer States to enhance reporting on existing efforts to implement recommendations from the Standing Committee (SC66 and SC70);

• request further review of these issues by the Big Cats Task Force (Task Force); and

• ensure that the Standing Committee and the CoP keep this issue under review at every meeting and that efforts are prioritized, particularly in transit and consumer Parties.

While cheetahs are a key issue for the United States, we are currently undecided on whether to submit a document to CoP19 on this issue. Cheetahs are included in the Joint CITES—Convention on the Conservation of Migratory Species of Wild Animals African Carnivores Initiative and will also be considered under the Task Force. While it is unlikely that there will be meaningful progress by the Task Force in advance of CoP19, we will continue to closely monitor these efforts to determine if it will be appropriate separately to submit a document to CoP19.

7. Pangolins (Manis spp.), and domestic markets for frequently illegally traded specimens: WCS recommends that the United States submit a document on pangolins that includes draft decisions seeking to:

• Build on the reports currently being drafted by consultants, feedback from the IUCN SSC Pangolin Specialist Group, and the advice of the Animals and Standing Committees;

• build on the previous reports about domestic markets for specimens that are frequently traded illegally, to identify domestic legal or semilegal markets, or poor enforcement of technically illegal markets, that contribute to illegal hunting and trade in pangolins and pangolin products;

• make recommendations for action on these domestic markets; and

• require targeted cooperation via a Task Force or other reporting process through the Standing Committee that enables review of progress against these actions.

The United States supports consideration of actions to address domestic markets that contribute to poaching and illegal trade, but we are undecided on whether we will submit such a document on pangolins and domestic markets, pending outcomes and recommendations from SC74.

8. Sharks and rays (Elasmobranchii spp.): WCS urges the United States to take the lead in efforts to address the noncompliance with CITES with regard to the implementation and enforcement of the Convention for shark and ray species, including submission of a document to CoP19 with draft amendments to the Decisions 18.218-18.225 and draft amendments to Resolution Conf. 12.6 (Rev. CoP18) on Conservation and management of sharks. The Natural Resources Defense Council (NRDC) also suggests recommending ongoing reporting on the conservation of sharks and rays and continued focus on enhancing measures to identify and halt illegal trade in shark and ray specimens. The Species Survival Network (SSN) suggests that the United States seek continued close monitoring of sharks and rays under CITES to address issues, including resolving implementation challenges due to look-alike issues and considering Regional Fishery Bodies management measures and introduction from the sea provisions.

The conservation and sustainable management of sharks and rays are key issues for the United States. The United States will continue to closely monitor this issue and make a decision pending outcomes and recommendations from SC74.

9. Gender Action Plan for CITES: WWF recommends that the United States submit an agenda item for CoP19 calling for a Gender Action Plan for CITES, which could be introduced through a draft resolution. WWF suggests that gender plays an important and unacknowledged role in wildlife trade, which differentially affects people of different groups. WWF points out that CITES enforcement (including rangering), decisionmaking, and implementation could benefit from efforts to promote gender equality.

While the United States is currently undecided on how to address this recommendation, we believe it is especially important to consider gender issues in the context of CITES capacity-building (see item B. 30.).

10. Elephants and appropriate and acceptable destinations: WWF recommends that the United States propose an amendment to Resolution Conf. 10.10 (Rev. CoP18) on Trade in elephant specimens, to reflect the position of the IUCN African Elephant Specialist Group that there is no conservation benefit to taking elephants from the wild to place them in zoos. The United States has actively engaged in the Animals Committee Working Group on “appropriate and acceptable destinations.” At the 31st meeting of the Animals Committee (AC31; virtual 2021), the Committee agreed to put forward recommendations to SC74 that include nonbinding best-practice guidance on how to determine whether “the trade would promote in situ conservation,” in line with the provisions of paragraph 2 b) of Resolution Conf. 11.20 (Rev. CoP18) on Definition of the term `appropriate and acceptable destinations.'

The United States is currently undecided on whether to submit an amendment on this issue to CoP19, and we will closely follow the discussions, outcomes, and recommendations arising from SC74 and make a decision following that meeting.

11. Marine turtles: WWF suggests the development of a new resolution on marine turtles to include enhanced enforcement; forensic sampling of seized specimens; effective legislation; donor assistance; and cooperation with other multilateral environmental agreements.

At CoP18, the Conference of the Parties adopted several decisions (Decisions 18.210-18.217 on Marine turtles (Cheloniidae spp. and Dermochelyidae spp.) that call for a large number of actions by the Parties, the Animals and Standing Committees, and the Secretariat. Activities called for include reviewing a study on the legal and illegal international trade in marine turtles; developing and/or updating management and action plans for the conservation of marine turtles; improving monitoring, detection, and law-enforcement activities for marine turtles; developing or updating, as appropriate, legislation that protects marine turtles; and working with relevant multilateral agreements to encourage communication and collaboration on the management and sustainable use of marine turtles. The United States has actively engaged in the intersessional work and will actively participate in the discussions on marine turtles at SC74. We are currently undecided on whether to support the development of a stand-alone resolution on marine turtles and will consider the outcomes of SC74 in making a decision.

12. Asian big cats: The World Wildlife Fund (WWF) suggested that the United States seek to prioritize the implementation of Decisions 17.226, 18.102, and 18.108 on Illegal trade in Asian big cats (Felidae spp.), with priority focus on Cambodia, China, Thailand, and Viet Nam, where significant concerns have been raised with regard to captive-breeding facilities.

The United States is following this issue closely and has actively engaged in the discussions during this intersessional period. Pending the outcomes and recommendations from SC74, we will determine whether to submit a document on this issue to CoP19.

13. Totoaba and vaquita: WWF urged the United States to redouble efforts, in close collaboration with China and Mexico, to eliminate demand for totoaba and ensure strong compliance with Decisions 18.292 and 18.293. The Center for Biological Diversity (CBD), Animal Welfare Institute (AWI), NRDC, and EIA also suggested that the United States seek to ensure that Mexico's failure to address the poaching and illegal trade in totoaba is addressed through CITES compliance procedures.

The United States remains gravely concerned about the status of the vaquita and illegal trade in totoaba and led efforts at the 18th meeting of the Conference of the Parties (CoP18; Geneva 2019) to strengthen several draft decisions considered during CoP18 to combat the illegal harvest and trade of totoaba. We will make a decision pending outcomes and recommendations from SC74.

14. Verification of legal acquisition: The International Wood Products Association (IWPA) recommends that the United States continue supporting work on the verification of legal acquisition of CITES specimens and the principle that legal acquisition findings are the primary responsibility of the CITES authorities of the exporting nation. IWPA commented that requiring an applicant to provide information on the entire chain of custody back to the origin of the specimen is unworkable for many manufactured goods. Further, IWPA does not consider that those applying for a CITES document should be required to provide that information, noting that information about chain of custody should not be determinative when obtaining that information is impossible or impractical and other verification tools exist.

The United States affirms that CITES Management Authorities hold the responsibility for making legal acquisition findings and supports development of guidance to assist the Parties in the practical aspects of making those findings. The United States is undecided about further work on this issue, pending outcomes and recommendations from SC74.

15. Pangolins: The IUCN SSC Pangolin Specialist Group requested that the United States submit agenda items addressing:

• Incentives, encouragement, and support to pangolin range countries to implement Resolution Conf. 17.10 on Conservation of and trade in pangolins;

• Ensuring ongoing focus on population monitoring, understanding harvest levels and supply chains, and capacity-building of frontline law enforcement to accurately identify different pangolin species and their parts and derivatives in trade;

• Taxonomic proposals that streamline the listing of pangolin species in the Appendices following Decision 18.315 on Nomenclature of Manidae spp.; and

• Calls for financial support to convene experts and range states to share knowledge related to ecology and monitoring; identify in situ and ex situ priorities for conservation action; research pangolin harvest and trade chains; deliver training related to identification; and implement activities from pangolin conservation action plans.

EIA requests that the United States:

• Support decisions for urgent action by pangolin range, transit, and consumer States to address the illegal trade in pangolins;

• support demand-reduction efforts, including closure of domestic markets;

• propose amendments to Resolution Conf. 17.10 on Conservation of and trade in pangolins that encourage Parties to eliminate demand in pangolin specimens; and

• direct the Secretariat to report on the conservation and management of pangolins to each meeting of the Standing Committee and CoP.

The United States is undecided on submitting any of these proposals or suggestions, pending outcomes and recommendations from the Standing Committee.

16. Sea cucumbers: CBD recommends that the United States submit a draft decision calling for a second global workshop on the status, conservation, and management of sea cucumbers.

We remain concerned with the increases in sea cucumber harvest globally and their biological vulnerability. We, therefore, seek further information from the public on the current trade and status of sea cucumbers, particularly species native to the United States, Puerto Rico, and U.S. territories in the Caribbean and the Pacific. We also seek input on the needs and objectives and goals of such a workshop. We are currently undecided on this issue and will consider further information and the outcomes and recommendations from SC74 in determining how best to address it at CoP19.

17. Resolution Conf. 17.8 on Disposal of illegally traded and confiscated specimens of CITES-listed species: Friends of Animals (FOA) recommends that the United States propose amendments to Resolution Conf. 17.8 to ensure consistency with the intent and requirements of CITES.

We are undecided on our actions concerning this issue pending outcomes and recommendations from SC74.

18. Animal meat markets: FOA recommends that the United States submit a document supporting the intent and the application of World Health Organization, OIE, United Nations Environment Programme guidance on “Reducing public health risks associated with the sale of live wild animals of mammalian species in traditional food markets.”

Pending outcomes and recommendations from the Standing Committee through its zoonotic disease working group, the United States will consider this issue and other guidance documents related to reducing disease risk in the wildlife trade (related to item B. 1. above). The United States is particularly interested in considering options to expand the partnership between CITES and OIE.

19. Application of Article XIII: EIA is concerned that CITES compliance issues are not being taken seriously and urges the United States to treat the issue of noncompliance as an urgent priority. Specifically, EIA urges the United States to support a decision by the Conference of the Parties at CoP19 to implement compliance procedures in relation to Lao People's Democratic Republic, Nigeria, and Viet Nam, due to persistent noncompliance over a significant period of time and insufficient progress in addressing their role in illegal wildlife trade. EIA recommends that the United States ensure complementarity between the Article XIII and NIAP proceedings in relation to Nigeria and requests that in the future a single progress report under Article XIII proceedings be submitted, which also includes NIAP progress.

The Standing Committee at its 74th meeting will discuss the numerous ongoing CITES compliance issues, including those highlighted by EIA. The United States takes CITES compliance issues seriously. We will closely monitor the outcomes and recommendations from SC74 and determine whether it will be necessary to submit a document to CoP19 on this matter.

20. Domestic ivory markets: EIA recommends that the United States call on the Conference of the Parties to direct Japan to close its domestic ivory market in line with Resolution Conf. 10.10 (Rev. CoP18) on Trade in elephant specimens, and to set concrete, short-term deadlines for market closure.

The United States supports the recommendation in Resolution Conf. 10.10 (Rev. CoP18) that all Parties and non-Parties in whose jurisdiction there is a legal domestic market for ivory that is contributing to poaching or illegal trade take all necessary legislative, regulatory, and enforcement measures to close their domestic markets for commercial trade in raw and worked ivory as a matter of urgency. This issue will be on the agenda for SC74, and, pending the outcomes of that meeting, we will determine whether we should submit a document on the issue to CoP19.

21. Forensic analysis of large-scale ivory seizures: EIA requests that the United States propose a draft decision directing the Secretariat to publish and maintain a list of countries that have made large-scale ivory seizures and whether the Parties have conducted forensic analysis and shared the results of that analysis. They also ask that we support calling for technical and financial support for conducting forensic analysis of large-scale ivory seizures.

We are undecided on this suggestion pending additional internal consultation with the FWS Office of Law Enforcement (FWS/OLE) and specifically the FWS/OLE Forensics Lab.

22. Captive Asian big cat facilities of concern: Decision 18.108 on Illegal trade in Asian big cats (Felidae spp.) directs the Secretariat, subject to external funding, to undertake a mission to those Parties in whose territories facilities keeping Asian big cats in captivity have been identified that may be of concern, with the purpose of gaining a better understanding of the operations and activities undertaken by those facilities. Noting that seven Parties have been identified as having such facilities, EIA believes that the Secretariat should be encouraged to consult with nongovernmental organizations, intergovernmental organizations, and relevant experts in preparing terms of reference both for the missions and for interim online consultations in the event the in-person missions cannot be conducted during this intersessional period. EIA urges the United States to offer technical and financial assistance to the Secretariat to develop the terms of reference and facilitate the CITES missions/interim consultations called for in the relevant decisions.

The United States has worked extensively with the Secretariat and others on this issue. In-person missions have not been able to take place during the current intersessional period to date due to the COVID-19 pandemic, and we will work with the Secretariat and others to determine if they can be undertaken prior to CoP19 or if this work should be carried over to the next intersessional period. Several issues related to Asian big cats will be on the agenda for SC74, and we will actively participate in the discussions there.

23. Asian big cat trade: EIA urges the United States to take action on Asian big cat trade, including promoting the creation of a centralized database of images of seized tiger skins and skins of tigers observed for sale in physical and digital markets and supporting consideration of time-bound, country-specific measures for Parties failing to comply with Asian big cat-related Resolutions and Decisions. To accomplish the latter, EIA recommends that the United States urge the Secretariat to issue a notification to relevant Parties requesting them to report on action taken to address noncompliance with CoP18 decisions and Resolution Conf. 12.5 (Rev. CoP18) on Conservation of and trade in tigers and other Appendix-I Asian big cat species, in time for the Secretariat to prepare a report for SC74, and for the Standing Committee to consider further time-bound, country-specific measures.

While EIA's recommendation does not specifically concern a CoP19 submission, the United States remains very concerned about the Asian big cat trade and continues to follow this issue. We will consider the outcomes and recommendations from the Standing Committee at SC74 in determining whether to submit a document on this matter to CoP19.

24. Rhinoceroses: Noting the worsening rhinoceros-poaching crisis in Botswana, EIA urges the United States to support decisions at CoP19 directing Botswana to strengthen its implementation of Resolution Conf. 9.14 (Rev. CoP17) on Conservation of and trade in African and Asian rhinoceroses, in particular on the provisions relating to anti-poaching and law-enforcement actions, including by pursuing the initiation of joint investigations and operations aimed at addressing members of organized crime networks, and to report to SC77.

The United States is currently undecided on whether to submit a document on this issue to CoP19, and we will closely follow the discussions, outcomes, and recommendations arising from SC74 and make a decision following that meeting.

25. Decision 18.116 on Rhinoceroses (Rhinocerotidae spp.): Noting particular concern with regard to Parties where legal domestic markets for rhinoceros parts and derivatives exist and the opportunities those markets provide for laundering illegal rhinoceros horn, and challenges to law-enforcement and demand-reduction efforts, EIA recommends that the United States support renewing Decision 18.116, concerning illegal markets for rhinoceros horn, until CoP20 and amending it to call on affected Parties to report to the Secretariat in advance of SC77 on any actions taken, and directing the Standing Committee to consider the matter.

The United States strongly supports considering actions under CITES to address domestic markets that are contributing to poaching or illegal trade. We are currently undecided on the recommendation made by EIA and will consider the outcomes and discussions from SC74 in determining how best to address this issue at CoP19.

26. Resolution Conf. 10.14 (Rev. CoP16) on Quotas for leopard hunting trophies and skins for personal use: SSN suggests that the United States support draft decisions or amendments to Resolution Conf. 10.14 (Rev. CoP16), aimed at strengthening the scientific oversight of annual leopard quotas and reducing overexploitation of the species, and requests Malawi, Ethiopia, and Kenya to remove or revise their quotas under this resolution. The discussion of this resolution and the current quotas for leopards from most range countries were reviewed by the Animals Committee at the 30th meeting of the Animals Committee (AC30; Geneva 2018), which made recommendations that were discussed extensively at CoP18, and decisions were taken. At CoP18, export quotas were approved for Mozambique, Namibia, South Africa, United Republic of Tanzania, Zambia, and Zimbabwe. Quotas for Kenya and Malawi should have been removed at those Parties' requests, but in what appears to have been an oversight that issue was not formally agreed to at CoP18 (see Resolution Conf. 10.14 (Rev. CoP16)). At AC31, the Animals Committee agreed to inform the Standing Committee that it considers the quotas for leopards for Botswana and the Central African Republic, as mentioned in Resolution Conf. 10.14 (Rev. CoP16), to be set at levels that are not detrimental to the survival of the species in the wild. The Committee also agreed to inform the Standing Committee that, for Ethiopia, it considers the proposed reduction of the quota for leopards in Resolution Conf. 10.14 (Rev. CoP16) to 20 trophies to be set at levels that are not detrimental to the survival of the species in the wild.

The United States is currently undecided on whether to submit a document on this issue to CoP19, and we will closely follow the discussions, outcomes, and recommendations arising from SC74 and make a decision following that meeting.

27. Transparency and oversight of CITES processes: AWI encourages the United States to submit a working document seeking greater transparency in the activities and operations of the Secretariat. AWI is particularly concerned about transparency in the context of the Review of Significant Trade (RST) process where correspondence between the Secretariat and Parties in the Review, while shared with Committee members (i.e., Animals, Plants, and Standing), is not made available to other Parties and observers.

We recognize the sensitivity of the information shared by Parties in response to questions rising during the RST and appreciate Parties' willingness to be honest in their communications during the review. We believe that the Secretariat's process of sharing responses with the Committees, in accordance with Resolution Conf. 12.6 (Rev. CoP18) on Review of Significant Trade in specimens of Appendix-II species, is appropriate, and, therefore, the United States is unlikely to submit a document specific to this issue.

Although we are unlikely to submit a document to CoP19 specifically calling for changes to the RST process, we strongly support the need for ensuring transparency in the Secretariat's activities and operations, including in its implementation of CITES decisions. We believe that this is particularly the case with regard to the selection of consultants and development of terms of reference, which we believe are crucial for delivering meaningful outputs that respond to the expectations of the Conference of the Parties when they adopt such decisions. Consequently, although we are currently undecided, we may submit a discussion document to CoP19 on this issue.

28. Reservations: A number of issues related to reservations have arisen following recent meetings of the Conference of the Parties, including the scope of specific reservations to amendments to Appendices I and II allowed under Article XV of the Convention and whether reservations can cover actions such as changes to an annotation to a listing and changes to taxonomy or nomenclature and the effect of specific reservations in special cases such as transferring taxa in split-listings.

The Secretariat has indicated its intention to prepare a document for SC74 addressing this issue. This is also an important issue for the United States that we are discussing internally. We are closely following the Secretariat's work and will determine whether to submit a U.S. document to CoP19 on reservations, including the potential for amendments to Resolution Conf. 4.25 (Rev. CoP18) on Reservations, pending the outcome of discussions at SC74.

29. Personal and household effects: Based on internal discussions, the United States is considering proposing an amendment to Resolution Conf. 13.7 (Rev. CoP17) on Control of trade in personal and household effects to designate a weight, volume, or number of specimens of certain species to be included in the list in paragraph b) iv) for which the Parties have agreed that CITES documents are not required unless the specimens being carried as a personal or household effect exceeds the weight, volume, or number specified. Items for which we are considering submitting such a proposal include American ginseng packaged and ready for retail trade, and finished musical instruments, finished musical instrument parts, and finished musical instrument accessories. We solicit information on what may be appropriate quantities if we decide to submit such a proposal.

30. Capacity-building/combating wildlife trafficking: At CoP18, the United States introduced the idea of a conceptual framework and resource-tracking tool for CITES capacity-building efforts (Document CoP18 Doc. 21.3). The proposed capacity-building framework sought to clarify how capacity-building advances conservation and implements CITES and aimed to coordinate and direct investments based on a Party's capacity-building needs. Although the Conference of the Parties at CoP18 did not adopt the draft resolution proposed by the United States, there was broad support for developing a CITES capacity-building framework and it adopted several decisions in support of the development of an integrated capacity-building framework to improve implementation of the Convention. The Standing Committee established a working group to develop recommendations on consolidating and integrating various compliance and capacity-building processes and how to proceed in terms of developing a capacity-building framework.

We are members of the Standing Committee's working group, and, depending on the outcomes of discussions at SC74, we will decide whether to submit a discussion document to CoP19 on this topic. Our primary goal, which we would promote in any discussion document we would submit to CoP19, would be to ensure capacity-building activities are Party-driven and coordinated.

31. Stocks and stockpiles: Based on internal discussions, the United States is considering submitting a discussion document on the management of stockpiled specimens, including pangolin scales, tiger specimens, rhinoceros horn, saiga horn, elephant ivory, timber, etc., and potentially recommending the development of a declaration system for stockpiles of dead specimens when an amendment is adopted to transfer a species from Appendix II to Appendix I.

32. Compliance: The United States is concerned that compliance considerations in CITES are becoming increasingly weakened and that Parties are not being held accountable for failing to effectively implement the provisions of the Convention. We are currently evaluating how these concerns might best be addressed and may submit a document on this issue for consideration at CoP19. Issues we are considering include timeframes for taking action, whether our concerns could be addressed in the context of a capacity-building framework, and avenues for ensuring that Scientific Authorities are empowered to do their work and that repeated failures to make scientifically robust non-detriment findings, when required, are appropriately addressed.

33. E-permitting: The United States is actively engaged in discussions on potential proposals regarding the issuance of electronic CITES permits. These are currently being debated in the Standing Committee's working group on electronic systems and information technologies. The working group will submit its recommendations to SC74. In general, the United States supports solutions that would ensure that any electronic CITES permit is authentic and meets all CITES permitting requirements by verifiably providing an electronic equivalent of an original paper CITES document presented with its shipment at the time of trade. Importantly, CITES documents prevent more than one authorized shipment from moving under a single-use document or unauthorized use of a multiple-use document, are presented at the time of trade, are able to be certified or validated at the time of export or reexport and canceled by the importing Party at the time of import or introduction from the sea, and enable any Party to readily verify whether the permit is valid and whether it has been used or canceled. An electronic equivalent must serve these same functions as well. Pending the outcome of discussions and recommendations arising from SC74, we may submit a separate document on this issue to CoP19.

34. Programming funding for CITES Decisions subject to external funding: Implementation of many of the CITES decisions adopted by the Conference of the Parties is subject to the availability of external funding. That funding is generally provided by Parties, but also on occasion by nongovernmental organizations. Recognizing that Parties have the latitude to direct their funding in accordance with their national priorities, we believe that there may be benefit in exploring mechanisms for ensuring that external funding is programmed consistent with the priorities identified by the Standing, Animals, and Plants Committees in their working programmes. Based on those internal discussions and discussions with other key funding Parties, we may submit a discussion document to CoP19 calling for the development of such a process.

35. 50th anniversary of CITES: The United States is considering submitting a document proposing activities to mark the 50th anniversary of CITES on March 3, 2023, as well as the 50th anniversary of its entry into force on July 1, 2025. We would seek to propose activities or events to celebrate the significant milestones of CITES over the last 50 years, and we welcome comments or suggestions regarding this issue.

C. What resolutions, decisions, and agenda items is the United States not likely to submit for consideration at CoP19, unless we receive significant additional information?

1. Rhinoceros horn: Citing the toll rhinoceros poaching has taken on rangers and rural communities, an individual recommends that the United States reconsider the ban on trade in rhinoceros horn and take action at CoP19 to address the issue. The United States has consistently opposed proposals to amend CITES listings to open a commercial trade in rhinoceros horn at previous meetings of the Conference of the Parties in view of the ongoing high levels of rhinoceros poaching and illegal trade in rhinoceros horn for high prices on the black market. The concept that a limited legal trade would provide a conservation benefit to rhinoceroses or that it could be sustainable within the context of the illegal trade is not supported. Information available to date does not provide satisfactory evidence that permitting trade would not fuel demand for rhinoceros horn or that effective control measures could be implemented to ensure that commercial trade would originate only from legal sources, and no proposal submitted to date has met the precautionary measures set out in Resolution Conf. 9.24 (Rev. CoP17) on Criteria for amendment of Appendices I and II.

The United States believes that a proposal to harvest rhinoceros horn for international trade is premature and runs the risk of exacerbating the ongoing poaching crisis, rather than resolving it. Accordingly, the United States is unlikely to submit a document on this issue but will carefully consider any proposals or discussion documents submitted for CoP19 on trade in rhinoceros horn and will develop its position based on internal discussions and public consultation.

2. Marine turtles: An individual suggests that, recognizing the public health risks of consuming marine turtle meat and derivatives, the United States should seek to prohibit take and consumption of all marine turtles and the development of a registration system of entities involved in take or sale of marine turtles and a traceability scheme, and call for the implementation of public awareness campaigns.

The United States is unlikely to submit a document on this issue. We note that marine turtles are protected under the U.S. Endangered Species Act and are included in Appendix I, which prohibits international trade in the taxon for primarily commercial purposes.

3. Wildlife trade ban: EMS Foundation (South Africa) urges the United States to seek a prohibition of all wildlife trade.

The United States is unlikely to submit a document seeking a prohibition of all wildlife trade because we recognize and support the purpose of CITES in regulating trade in listed species to ensure it is legal, does not threaten the survival of species in the wild, and that any use of wildlife and plants in trade is sustainable.

4. Sharks and RFMOs: WWF suggests that the United States submit a discussion document to raise the profile of failures of Regional Fishery Management Organizations (RFMOs) to effectively manage Appendix-II shark species and refer the issue to the Animals Committee and the Standing Committee.

The United States actively participates as a member of CITES and RFMOs toward ensuring the sustainability of sharks and is unlikely to submit a document on this issue to CoP19.

5. Electronic permitting: IWPA and the League of American Orchestras request that the United States continue supporting development and implementation of robust electronic-permitting systems.

The United States supports development and implementation of robust electronic-permitting systems through its participation in the ongoing Standing Committee's working group on electronic systems and information technologies. We are actively engaged in the Standing Committee discussions on the development of proposed amendments to relevant resolutions or decisions regarding electronic systems through that process, which will be presented to the Standing Committee at SC74. Therefore, we are unlikely to submit a document on this issue to CoP19.

6. Permit delays and industry outreach: IWPA encourages the United States to work closely with other Parties to find solutions that preserve the level of trade in species that is not detrimental to the survival of species in question and raises concern that listing all species in a genus (as in Dalbergia and Cedrela listings), including those that are not threatened, places unworkable administrative burdens on exporting nations.

The United States has an ongoing commitment to working with permit stakeholders to understand CITES requirements, and the United States is unlikely to submit a document on this topic to CoP19.

7. Efficiency of permitting process: Costa Farms, LLC, recommends that the United States engage the Parties in a discussion of CITES certificates and processes, particularly with respect to improving the efficiency of issuing CITES documents. They recommend creation of a certification program; extension of the validity period of certificates for artificially propagated plants from 6 months to 1 year; changing from paper certificates with ink signatures to a digital format; and automation of certificates using templates that allow commercial operations to print documents in-house.

The United States is unlikely to submit a document on these ideas. Resolution Conf. 12.3 (Rev. CoP18) on Permits and certificates establishes the use of simplified procedures to issue permits and certificates, including a process for issuance of partially completed certificate for artificially propagated plants that remain valid for a period of 3 years. The United States implements this provision by allowing submission and authorization of master files for certificate for artificially propagated plants that are valid for 3 years. As described above, the United States supports development and implementation of robust electronic-permitting systems through its participation in the ongoing Standing Committee's working group on electronic systems and information technologies. Proposed amendments or decisions regarding electronic systems will be developed through that process and presented to the Standing Committee at SC74 and then CoP19.

8. Addressing CITES' weaknesses identified by IPBES: CBD suggests that the United States address the issues identified in the 2019 report of the Intergovernmental Science-Policy Platform on Biodiversity and Ecosystem Services (IPBES): “Global assessment report on biodiversity and ecosystem services of the Intergovernmental Science-Policy Platform on Biodiversity and Ecosystem Services,” including compliance, the need for science-based quotas, enforcement, funding, combating corruption, and demand reduction.

While we believe that these are all important issues that are central to effective implementation of CITES, they are being addressed through ongoing efforts and discussions, and, therefore, we are unlikely to submit a document to CoP19 on this issue.

9. Synthetic specimens: CBD urges the United States to ensure that the CITES Parties consider that synthetic products of or made from CITES-listed species are included under the provisions of the Convention.

Recognizing the ongoing intersessional work on this issue, in which the United States is actively involved, we are unlikely to submit a separate document for CoP19 on synthetic specimens. The longstanding U.S. position is that specimens of CITES-listed species produced from biotechnology should be regulated under CITES as readily recognizable, if they meet the existing criteria under Resolution Conf. 9.6 (Rev. CoP16) on Trade in readily recognizable parts and derivatives. However, we are generally supportive of amendments to the resolution to make that explicit.

10. Travel with instruments containing CITES species: The League of American Orchestras recommends that the United States propose an exemption from CITES requirements of noncommercial movement of musical instruments containing CITES-listed species.

We are unlikely to submit such a proposal as we cannot propose or support the adoption of a new exemption from CITES requirements that does not exist in the Convention. We will consider other avenues for addressing the concerns of musicians and other musical instrument stakeholders in the context of possible amendments to Resolution Conf. 13.7 (Rev. CoP17) on Control of trade in personal and household effects.

11. Application of a precautionary approach: EIA reminds the United States of the importance of applying the precautionary approach in framing policy and negotiation positions under CITES.

Although the United States is currently not planning to submit an agenda item to CoP19 specifically on the precautionary approach, we routinely apply the precautionary approach where appropriate in our implementation of CITES.

12. Domestic trade: EIA recommends that the United States recognize that there is a mandate to address domestic trade in CITES under certain circumstances.

Although the United States supports consideration of actions to address domestic markets that contribute to poaching or illegal trade, we are unlikely to submit a document to CoP19 specifically addressing this issue. However, we will closely follow any discussions on this issue at SC74 and any recommendations arising from that meeting.

13. Annual illegal trade reports: EIA recommends that the United States propose amendments to relevant resolutions to make failure to submit those reports subject to noncompliance proceedings; ensure transparency and accountability in relation to illegal trade reports; and strengthen law-enforcement responses to illegal trade in CITES species.

The United States is a strong supporter of the CITES Illegal Trade Report, and all Parties are urged to submit annual illegal trade reports in accordance with the recommendations of the Conference of the Parties. However, at this time, the United States does not support initiating compliance measures against non-reporting Parties given that the CITES annual illegal trade report was developed recently and was not intended to be subject to compliance measures. Therefore, we are unlikely to submit a document on this issue to CoP19.

14. Elephants: EIA suggests that the United States support maintenance of the ban on international ivory trade, including by rejecting any down-listing proposals for African elephants.

The United States remains concerned about the status of elephants in the wild and the trafficking of ivory. Although we are unlikely to submit a document on this issue, we will carefully consider any proposals or discussion documents submitted to CoP19 on trade in elephant ivory, particularly from range countries, and will develop our position based on internal discussions and public consultation on species proposals to amend the Appendices submitted by other Parties.

15. Rhinoceros-horn trade ban: EIA suggests that the United States oppose any proposals that would allow international trade in rhinoceros horn, including through the exploitation of CITES exemptions for specimens bred in captivity.

The United States is unlikely to submit a document on this issue but will carefully consider any proposals or discussion documents submitted to CoP19 on trade in rhinoceros horn, particularly from range states, and we will develop our position based on internal discussions and public consultation on species proposals to amend the Appendices that are submitted by other Parties.

16. Funding for future meetings of the Conference of the Parties: Concerned with the increasing size and cost of meetings of the Conference of the Parties, SSN recommends that the United States submit draft decisions to CoP19 directing the Secretariat and the Standing Committee to explore funding mechanisms with the aim of guaranteeing that future meetings of the Conference of the Parties will not have to be postponed or withdrawn for financial reasons.

The United States shares SSN's concerns with regard to the need to address the increasing size and cost of CITES meetings and will continue to work through the Standing Committee's Finance and Budget Subcommittee and the Conference of the Parties to address these issues. Currently, we do not intend to submit draft decisions on this matter to CoP19.

17. Trade in Macaca fascicularis (Long-tailed macaque): SSN suggests the United States submit a discussion document on trade in long-tailed macaques, which includes draft decisions recommending that trading Parties agree to commit to greater oversight of the burgeoning trade in this species. Action for Primates suggests that the United States explore steps CITES could take to investigate possible trade violations related to trade in this species and consider enforcement actions, where appropriate.

Although the United States is unlikely to submit a document, we continue to follow the discussion of the trade in this species by the Animals Committee, including through both the Review of Significant Trade and review of captive-bred and ranched specimens.

18. International trade in frogs for consumption: SSN recommends that the United States submit a discussion document related to international trade in frogs for consumption, to ensure that this trade does not threaten species in the wild.

We recognize trade in this taxon is significant, but we believe this document should be submitted by range States. Therefore, the United States does not currently plan to submit a document related to this issue to CoP19.

19. Introduction from the Sea: SSN suggests that the United States take action to ensure that CITES continues to monitor and, where needed, actively enhance implementation of the provisions of introduction from the sea.

These issues are already considered in the context of Resolution Conf. 14.6 (Rev. CoP16) on Introduction from the Sea, and, therefore, we are unlikely to submit a document on this issue to CoP19.

20. Reemphasizing the need for CITES and improving its implementation: In the lead-up to the 50th anniversary of the agreement of the Convention text, AWI recommends that the United States submit a draft resolution reemphasizing the need for CITES and improving its implementation. AWI suggests that such a draft resolution could address a number of issues, including promoting capacity-building, urging the use of best available science in CITES decisionmaking; embracing the precautionary principle; calling for greater transparency and accountability; and strengthening national CITES implementing laws.

We strongly agree with all of the concepts raised in AWI's comment but note that these concepts are already reflected in existing resolutions. As a result, we are unlikely to submit a document on this issue to CoP19.

21. Candidate-species listing tool: AWI recommends that the United States submit a document that proposes a formal process whereby, between CoPs, species that may warrant CITES protections can be identified and research undertaken to assess the merits of including them in the Appendices.

The United States acknowledges the responsibility of each Party to monitor trade and status of species not included in the Appendices, particularly native species, to determine if significant levels of international trade may affect a species' conservation status such that it should be considered for inclusion in the Appendices. Organizations that collect and monitor trade levels in species that are not regulated under CITES are encouraged to provide that information to the Parties for their consideration. We also recognize the role of Parties in submitting proposals to a CoP, given limited resources and existing mechanisms. Therefore, the United States is unlikely to propose a candidate-species listing tool to CoP19.

22. Taxa-specific assessments and/or workshops: AWI recommends that the United States submit a working document that seeks the preparation of comprehensive assessments and/or the planning of workshops to identify and prioritize the genera or species within particular taxa that most warrant inclusion in the Appendices.

While the United States, in collaboration with State wildlife agencies and the Association of Fish & Wildlife Agencies (AFWA), has conducted taxa-specific assessments and workshops for some U.S. native species, it has done so to monitor the status and trade of native species. We have found those workshops to be informative and possibly a `best practice,' but we are cognizant that each Party determines how best to monitor the status of and trade in its native species. We also recognize the role of Parties in submitting proposals to a CoP, given limited resources and existing mechanisms. Therefore, the United States is unlikely to submit a document on this issue to CoP19.

23. Law Enforcement Management Information System (LEMIS) database: AWI recommends that the United States consider hosting a side event at CoP19 to explain the origins, maintenance, and benefits of the LEMIS database in order to encourage other Parties to develop and implement similar databases in their countries.

Currently, our position is that we are unlikely to submit a request to host such an event at CoP19. However, if other Parties express an interest in this issue, we will consider hosting a workshop on this topic. We will further consider this suggestion pending additional internal consultation in FWS/OLE.

24. Paperless CITES meetings: AWI recommends that the United States submit a working document to reinitiate discussions for reducing the environmental footprint of CITES meetings, including by striving to conduct paperless meetings, reducing or eliminating the use of plastic products, considering alternative meeting arrangements (e.g., hybrid meetings, including hybrid meetings using hub cities), and ensuring availability of vegan and vegetarian food items and meals.

We note that the organization of CITES meetings is an ongoing discussion in the Standing Committee, and, therefore, we are unlikely to submit a document on this issue to CoP19.

25. Holding a virtual CoP19: A member of the public urges the United States to suggest that in-person meetings of the Conference of the Parties be cancelled and held virtually instead.

The United States believes that in-person meetings foster important collaboration and cooperation among Parties and stakeholders, and we support holding in-person meetings when possible, based on safety and logistical considerations. Therefore, we are unlikely to seek that CoP19 be held virtually, unless it cannot be held safely in person.

Request for Information and Comments

We invite information and comments concerning any of the possible CoP19 species proposals, resolutions, decisions, and agenda items discussed above. You must submit your information and comments to us no later than the date specified in DATES, above, to ensure that we consider them.

Observers

Article XI, paragraph 7, of CITES states that “Any body or agency technically qualified in protection, conservation or management of wild fauna and flora, in the following categories, which has informed the Secretariat of its desire to be represented at meetings of the Conference by observers, shall be admitted unless at least one-third of the Parties present object:

(a) International agencies or bodies, either governmental or non-governmental, and national governmental agencies and bodies; and

(b) national non-governmental agencies or bodies which have been approved for this purpose by the State in which they are located. Once admitted, these observers shall have the right to participate but not to vote.”

Persons wishing to be observers representing international nongovernmental organizations (which must have offices in more than one country) at CoP19 may request approval directly from the CITES Secretariat. Persons wishing to be observers representing U.S. national nongovernmental organizations at CoP19 must receive prior approval from the U.S. Division of Management Authority (ADDRESSES). Once we grant our approval, a U.S. national nongovernmental organization is eligible to register with the Secretariat and must do so at least 6 weeks prior to the opening of CoP19 to participate in the meeting as an observer. Individuals who are not affiliated with an organization may not register as observers. An international nongovernmental organization with at least one office in the United States may register as a U.S. nongovernmental organization if it prefers.

An organization seeking approval from our office to attend CoP19 as an observer must include in their request evidence of their technical qualifications in protection, conservation, or management of wild fauna or flora, for both the organization and the individual representative(s). The request must also include copies of the organization's charter and any bylaws, and a list of representatives it intends to send to CoP19. Organizations seeking approval for the first time should detail their experience in the protection, conservation, or management of wild fauna or flora, as well as their purposes for wishing to participate in CoP19 as an observer. An organization we have approved within the past 5 years as an observer to a meeting of the Conference of the Parties does not need to provide as much detailed information concerning its qualifications as an organization seeking approval for the first time. These requests should be sent to the Division of Management Authority at the address provided in ADDRESSES, above; via email to managementauthority@fws.gov; or via fax to 703-358-2298.

Once we approve an organization as an observer, we will direct them to the location on the CITES website where they can obtain instructions for registering with the CITES Secretariat and also obtain logistical information about the meeting. A list of organizations approved for observer status at CoP19 will be available upon request from the Division of Management Authority immediately prior to the start of CoP19.

Future Actions

The CITES Secretariat will prepare a provisional agenda for CoP19 following the submission of documents for the meeting. We will publish the CoP19 provisional agenda in the Federal Register and on our website, at https://www.fws.gov/international.

The United States must submit any draft resolutions, decisions, or agenda items for discussion at CoP19 to the CITES Secretariat 150 days prior to the start of the meeting (i.e., by June 17, 2022). To meet this deadline and prepare for CoP19, we have developed a tentative U.S. schedule. We will consider all available information and comments we receive during the comment period for this Federal Register notice as we decide which proposed resolutions, decisions, and agenda items the United States will submit for consideration by the Parties. Approximately 4 months prior to CoP19, we will post on our website an announcement of the draft resolutions, draft decisions, and agenda items submitted by the United States for consideration at CoP19.

Through a series of additional notices and website postings in advance of CoP19, we will inform you about preliminary negotiating positions on resolutions, decisions, and amendments to the Appendices proposed by other Parties for consideration at CoP19. We will also publish an announcement of a public meeting to be held approximately 2 to 3 months prior to CoP19, to receive public input on our tentative negotiating positions regarding CoP19 issues.

The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Public Availability of Comments

Before including your address, phone number, email address, or other personal identifying information in your comment, please be aware that your entire comment—including your personal identifying information—may be made publicly available. If you submit a hardcopy comment that includes personal identifying information, you may request at the top of your document that we withhold this information from public review; however, we cannot guarantee that we will be able to do so.

Authors

The primary authors of this notice are Anne St. John and Dara Satterfield, Division of Management Authority, U.S. Fish and Wildlife Service.

Authority

The authority for this action is the Endangered Species Act of 1973, as amended (16 U.S.C. 1531 et seq.).

Signing Authority

The Director, U.S. Fish and Wildlife Service, approved this document and authorized the undersigned to sign and submit the document to the Office of the Federal Register for publication electronically as an official document of the U.S. Fish and Wildlife Service. Martha Williams, Principal Deputy Director Exercising the Delegated Authority of the Director, U.S. Fish and Wildlife Service, approved this document on March 2, 2022, for publication.

Madonna Baucum,
Regulations and Policy Chief, Division of Policy, Economics, Risk Management, and Analytics, Joint Administrative Operations, U.S. Fish and Wildlife Service.

[FR Doc. 2022-04716 Filed 3-4-22; 8:45 am]

BILLING CODE 4333-15-P